DEPARTMENT OF LABOR

Office of the Secretary

Submission for OMB Review; Comment Request

December 23, 2003.

The Department of Labor (DOL) has submitted the following public information collection requests (ICRs) to the Office of Management and Budget (OMB) for review and approval in accordance with the Paperwork Reduction Act of 1995 (Pub. L. 104-13, 44 U.S.C. Chapter 35). A copy of each ICR, with applicable supporting documentation, may be obtained by contacting the Department of Labor. To obtain documentation, contact Ira Mills on 202-693-4122 (this is not a toll-free number) or E-Mail: mills.ira@dol.gov.

Comments should be sent to Office of Information and Regulatory Affairs, Attn: OMB Desk Officer for the Employment and Training Administration (ETA), Office of Management and Budget, Room 10235, Washington, DC 20503 (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision of a currently approved collection.

Title: Job Corps Application Data.

OMB Number: 1205-0025.

Affected Public: Individuals or households; State, Local, or Tribal Government; Business or other for-profit; and Not-for-profit institutions.

Type of Response: Reporting and Recordkeeping.

Frequency: On occasion.

Number of Respondents: 102,833.

Annual Responses: 107,719.

Form | Number of respondents | Average response time | Burden hours
Job Corps Application—ETA 652 | 102,833 | 10 minutes | 17,139
Statement from Court—ETA 655 | 102,833 | 1 minute | 1,714
Child Care Certification—ETA 682 | 4,886 | 30 seconds | 41
Total |  |  | 18,894

Total Annualized Capital/Startup Costs: $0.

Total Annual Costs (operating/maintaining systems or purchasing services): $0.

Description: Data previously collected on the following Job Corps application forms are now being collected from data input screens that electronically transmit data to a Center Information System (CIS). Job Corps has continued to collect application data because it was necessary to the application process that youth receiving training on Job Corps centers be eligible for the benefits provided.

Job Corps has now implemented electronic collection of data during the Job Corps application process and the changes required by the Workforce Investment Act have been incorporated in the collection. We request that the following data used in the application process be extended under OMB 1205-0025:

ETA 652, Job Corps Data Sheet,

ETA 655, Statement from Court or Other Agency, and ETA 682, Child Care Certification.

The automation of these forms will result in a reduction in paperwork burden hours and a streamlined electronic application.

Agency: Employment and Training Administration.

Type of Review: Revision of a currently approved collection.

Title: Senior Community Service Employment Program (SCSEP).

OMB Number: 1205-0040.

Affected Public: Not-for-profit institutions and State, Local, or Tribal Government.

Type of Response: Reporting and Third party disclosure.

Frequency: Quarterly and Annually.

Collection of information | Number of respondents | Frequency | Annual responses | Average response time (hours) | Annual burden hours
Quarterly Program Report, ETA-5140 | 69 | Quarterly | 276 | 8 | 2,208
Equitable Distribution Report, ETA-8705 | 56 | Annually | 56 | 12 | 672
Poster | 69 | On occasion | 69 | 0.0 | 0
Financial Status Report, SF-269 | 69 | Quarterly and Final | 345 | 0.50 | 172
Grant Planning and Application, Application for Federal Domestic Assistance, SF-424, SF-424A/B | 69 | Annually | 69 | 40 | 2,760
Total |  |  | 815 |  | 5,812

Total Annualized Capital/Startup Costs: $0.

Total Annual Costs (operating/maintaining systems or purchasing services): $0.

Description: This collection of program and financial information continues to be needed to assure that the requirements of Title V of the Older Americans Act are met. The extension of these forms will allow coverage while the new reporting system and performance measures are developed.

Agency: Employment and Training Administration.

Type of Review: Revision of a currently approved collection.

Title: Investigative Data Collection Requirements for the Trade Act of 1974 as amended by the Trade Act of 2002.

OMB Number: 1205-0342.

Affected Public: Individuals or households; Business or other for-profit; and State, Local, or Tribal Government.

Type of Response: Reporting.

Frequency: On occasion.

Number of Respondents: 4,100.

Annual Responses: 4,100.

Information collection | Number of respondents | Average response time (hours) | Burden hours
ETA 9042a—Petition | 4,100 | 0.33 | 1,367
ETA 9042a—State Review | 4,100 | 0.08 | 342
ETA 9043a | 4,100 | 3.50 | 14,350
ETA 8562a | 6,560 | 1.78 | 11,677
ETA 9018 | 75 | 3.00 | 225
Total |  |  | 27,961

Total Annualized Capital/Startup Costs: $0.

Total Annual Costs (operating/maintaining systems or purchasing services): $0.

Description: ETA Form 9042a, Petition for Trade Adjustment Assistance, and its Spanish translation, ETA Form 9042a-1, Solicitud De Asistencia Para Ajuste, establish a format that may be used for petitioning for a certification of eligibility to apply for worker adjustment assistance. The form is necessary to ensure an orderly application process and timely processing of petitions in accordance with section 221(a) of Title II, Chapter 2 of the Trade Act of 1974, as amended by the Trade Act of 2002. The ETA 9043a Business Confidential Data Request, ETA 8562a Customer Survey, and ETA 9018 Oil and Gas Drilling and Exploration Oilfield Services are undertaken in accordance with sections 222, 223 and 249 of the Trade Act of 1974, as amended by the Trade Act of 2002, which require the Secretary of Labor to certify groups of workers as eligible to apply for worker trade adjustment assistance.

The Department is requesting to consolidate multiple collections of information under one OMB control number (OMB No. 1205-0342). The collections of information, forms and currently assigned OMB control numbers are listed below:

Collection title | Form | OMB No.
Investigative Data Collection Requirements for the Trade Act of 1974 as amended by the Trade Act of 2002 (Formerly, Petition for Trade Adjustment Assistance) | ETA 9042a | 1205-0342
Business Confidential Data Request and NAFTA Transitional Adjustment Assistance Confidential Data Request | ETA 9043a | 1205-0339
Customer Survey and TAA Customer Survey | ETA 8562a | 1205-0190
Oil and Gas Drilling and Exploration Oilfield Services | ETA 9018 | 1205-0272
Request for Determination of Eligibility to Apply for the Alternative Trade Adjustment Assistance for Older Workers | N/A | 1205-0442

Ira L. Mills,
Departmental Clearance Officer.

[FR Doc. 04-155 Filed 1-5-04; 8:45 am]

BILLING CODE 4510-30-P